INTERNATIONAL TRADE COMMISSION

[Investigation No. 701-TA-431 (Remand)]

Drams and Dram Modules From Korea

AGENCY: United States International Trade Commission.

ACTION: Notice.

SUMMARY: The Commission hereby gives notice that it is inviting parties to the referenced proceeding to file comments in the remand proceeding ordered by the United States Court of International Trade (CIT). For further information concerning the conduct of this proceeding and rules of general application, consult the Commission's Rules of Practice and Procedure, part 201, subparts A through E (19 CFR part 201), and part 207, subpart A (19 CFR part 207).

DATES: Effective May 10, 2006.

FOR FURTHER INFORMATION CONTACT: Mary A. Messer (202-205-3193), Office of Investigations, or Marc A. Bernstein (202-205-3087), Office of General Counsel, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record of Investigation No. 701-TA-431 may be viewed on the Commission's electronic docket (EDIS) at http://edis.usitc.gov.

SUPPLEMENTARY INFORMATION:

Background

In August 2003, the Commission determined that an industry in the United States was materially injured by reason of subsidized imports of DRAMs and DRAM modules from Korea. Hynix Semiconductor Inc. and Hynix Semiconductor America Inc. subsequently instituted an action at the CIT challenging the Commission's determination.

The CIT issued an opinion in the matter on April 13, 2006. Hynix Semiconductor Inc. v. United States, Ct. No. 03-00652, Slip Op. 06-52 (Ct. Int'l Trade Apr. 13, 2006). In its opinion, the CIT remanded the matter to the Commission for further consideration of the causal nexus between the subject imports and material injury to the domestic DRAMs industry in light of changes in the rate of growth of demand. In all other respects the CIT affirmed the Commission's opinion.

Participation in the Proceeding

Only those persons who were interested parties to the original investigation (i.e., persons listed on the Commission Secretary's service list) may participate in the remand proceedings. Such persons need not make any additional filings with the Commission to participate in the remand proceedings. Business proprietary information (“BPI”) referred to during the remand proceeding will be governed, as appropriate, by the administrative protective order issued in the original investigation.

Written Submissions

The Commission is not reopening the record in this proceeding for submission of new factual information. The Commission will, however, permit the parties to file comments pertaining to the issue on which the CIT has remanded this matter. The deadline for filing comments is May 25, 2006. Comments shall be limited to no more than twenty (20) double-spaced and single-sided pages of textual material.

The parties may not submit any new factual information and may not address any issue other than the impact on the domestic industry of changes in the rate of growth of DRAM demand. Comments filed in the Commission section 129 consistency proceeding concerning DRAMs and DRAM Modules from Korea are not part of the record of these remand proceedings. Accordingly, the comments submitted in this remand proceeding may not cite or incorporate by reference comments submitted in the section 129 consistency proceeding. Any material from the comments in the section 129 proceeding that is reproduced and appended to or incorporated within the comments filed in these remand proceedings will be counted against the 20-page limit for comments.

All written submissions must conform with the provisions of § 201.8 of the Commission's rules; any submissions that contain BPI must also conform with the requirements of §§ 201.6, 207.3, and 207.7 of the Commission's rules. The Commission's rules do not authorize filing of submissions with the Secretary by facsimile or electronic means, except to the extent permitted by § 201.8 of the Commission's rules, as amended, 67 FR 68036 (November 8, 2002).

In accordance with §§ 201.16(c) and 207.3 of the Commission's rules, each document filed by a party to the investigation must be served on all other parties to the investigation (as identified by either the public or BPI service list), and a certificate of service must be timely filed. The Secretary will not accept a document for filing without a certificate of service.

Issued: May 3, 2006.
By order of the Commission.
Marilyn R. Abbott,
Secretary to the Commission.

[FR Doc. E6-7060 Filed 5-9-06; 8:45 am]

BILLING CODE 7020-02-P